DEPARTMENT OF ENERGY

Federal Energy Regulatory Commission

Combined Notice of Filings #1

Take notice that the Commission received the following electric rate filings:

Docket Numbers: ER15-1456-006; ER10-2959-013; ER11-3859-016; ER16-999-006; ER11-4634-006; ER10-2934-012; ER17-436-004; ER17-437-007; ER14-1699-006; ER10-2615-011; ER15-1457-006.

Applicants: Beaver Falls, L.L.C., Chambers Cogeneration, Limited Partnership, Dighton Power, LLC, Greenleaf Energy Unit 1 LLC, Hazleton Generation LLC, Logan Generating Company, L.P., Marcus Hook Energy, L.P., Marcus Hook 50, L.P., Milford Power, LLC, Plum Point Energy Associates, LLC, Syracuse, L.L.C.

Description: Notice of Change in Status of Beaver Falls, L.L.C., et al.

Filed Date: 2/20/18.

Accession Number: 20180220-5225.

Comments Due: 5 p.m. ET 3/13/18.

Docket Numbers: ER18-724-000.

Applicants: Grid Power Direct, LLC.

Description: Amendment to January 29, 2018 Grid Power Direct, LLC tariff filing (Transmittal Letter). Also submitted (Asset List).

Filed Date: 2/16/18.

Accession Number: 20180216-5232f: 20180216-5233.

Comments Due: 5 p.m. ET 3/9/18.

Docket Numbers: ER18-872-000.

Applicants: Mercuria Commodities Canada Corporation.

Description: § 205(d) Rate Filing: Seller Category change to be effective 4/17/2018.

Filed Date: 2/16/18.

Accession Number: 20180216-5188.

Comments Due: 5 p.m. ET 3/9/18.

Docket Numbers: ER18-873-000.

Applicants: Mercuria Energy America, Inc.

Description: § 205(d) Rate Filing: Seller Category Change to be effective 4/17/2018.

Filed Date: 2/16/18.

Accession Number: 20180216-5198.

Comments Due: 5 p.m. ET 3/9/18.

Docket Numbers: ER18-874-000.

Applicants: Noble Americas Gas & Power Corp.

Description: Tariff Cancellation: Cancellation of market-based rate tariff to be effective 2/19/2018.

Filed Date: 2/16/18.

Accession Number: 20180216-5211.

Comments Due: 5 p.m. ET 3/9/18.

Docket Numbers: ER18-875-000.

Applicants: Southwest Power Pool, Inc.

Description: § 205(d) Rate Filing: 3380 NorthWestern Energy & Bryant, SD Wholesale Distrib to be effective 4/22/2018.

Filed Date: 2/20/18.

Accession Number: 20180220-5009.

Comments Due: 5 p.m. ET 3/13/18.

Docket Numbers: ER18-876-000.

Applicants: Southwest Power Pool, Inc.

Description: § 205(d) Rate Filing: 3381 NorthWestern Energy & Groton, SD Wholesale Distrib to be effective 4/22/2018.

Filed Date: 2/20/18.

Accession Number: 20180220-5042.

Comments Due: 5 p.m. ET 3/13/18.

Docket Numbers: ER18-877-000.

Applicants: PJM Interconnection, L.L.C.

Description: § 205(d) Rate Filing: Original WMPA SA No. 4941; Queue No. AC2-162 to be effective 2/5/2018.

Filed Date: 2/20/18.

Accession Number: 20180220-5091.

Comments Due: 5 p.m. ET 3/13/18.

Docket Numbers: ER18-878-000.

Applicants: Southwest Power Pool, Inc.

Description: § 205(d) Rate Filing: 3382 NorthWestern Energy & Langford, SD Wholesale Distrib to be effective 4/22/2018.

Filed Date: 2/20/18.

Accession Number: 20180220-5115.

Comments Due: 5 p.m. ET 3/13/18.

Docket Numbers: ER18-879-000.

Applicants: NorthWestern Corporation.

Description: Tariff Cancellation: Notice of Cancellation—PTP TSAs with Langford (SA 32-SD) and Bryant (SA 33-SD) to be effective 4/22/2018.

Filed Date: 2/20/18.

Accession Number: 20180220-5156.

Comments Due: 5 p.m. ET 3/13/18.

Docket Numbers: ER18-880-000.

Applicants: Plum Point Services Company, LLC.

Description: § 205(d) Rate Filing: Notice of Change in Status and Seller Category Tariff Revision to be effective 2/21/2018.

Filed Date: 2/20/18.

Accession Number: 20180220-5181.

Comments Due: 5 p.m. ET 3/13/18.

Docket Numbers: ER18-881-000.

Applicants: Midcontinent Independent System Operator, Inc.

Description: § 205(d) Rate Filing: 2018-02-20 True-Up Filing pursuant to Order issued in Docket No. ER18-364 to be effective 12/6/2017.

Filed Date: 2/20/18.

Accession Number: 20180220-5182.

Comments Due: 5 p.m. ET 3/13/18.

Docket Numbers: ER18-882-000.

Applicants: Elk City Renewables II, LLC.

Description: Baseline eTariff Filing: Elk City Renewables II, LLC Application for Market-Based Rates to be effective 5/1/2018.

Filed Date: 2/20/18.

Accession Number: 20180220-5183.

Comments Due: 5 p.m. ET 3/13/18.

Docket Numbers: ER18-883-000.

Applicants: Southern California Edison Company.

Description: § 205(d) Rate Filing: GIA & Distrib Serv Agmt Desert Water Agency Snow Creek Project, SA Nos. 993-994 to be effective 2/3/2018.

Filed Date: 2/20/18.

Accession Number: 20180220-5184.

Comments Due: 5 p.m. ET 3/13/18.

Docket Numbers: ER18-884-000.

Applicants: Bear Swamp Power Company LLC.

Description: § 205(d) Rate Filing: Bear Swamp Amendment Compliance Filing to be effective 2/20/2018.

Filed Date: 2/20/18.

Accession Number: 20180220-5249.

Comments Due: 5 p.m. ET 3/13/18.

Docket Numbers: ER18-885-000.

Applicants: Public Service Company of New Mexico.

Description: Initial rate filing: Transmission Construction and Interconnection Agreement with Lucky Corridor to be effective 1/29/2018.

Filed Date: 2/20/18.

Accession Number: 20180220-5250.

Comments Due: 5 p.m. ET 3/13/18.

Take notice that the Commission received the following public utility holding company filings:

Docket Numbers: PH18-6-000.

Applicants: Starwood Energy Group Global, L.L.C.

Description: Starwood Energy Group Global, L.L.C. submits FERC 65-B Non-Material Change in Fact of Waiver Notification.

Filed Date: 2/20/18.

Accession Number: 20180220-5213.

Comments Due: 5 p.m. ET 3/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 20, 2018.
Nathaniel J. Davis, Sr.,
Deputy Secretary.

[FR Doc. 2018-03968 Filed 2-26-18; 8:45 am]

BILLING CODE 6717-01-P